ENVIRONMENTAL PROTECTION AGENCY

40 CFR Part 52

[R04-OAR-2005-KY-0001-200521(c); FRL-7999-5]

Approval and Promulgation of Implementation Plans and Designation of Areas for Air Quality Planning Purposes; Kentucky; Redesignation of the Christian County, Kentucky Portion of the Clarksville-Hopkinsville 8-Hour Ozone Nonattainment Area to Attainment for Ozone; Correction

AGENCY: Environmental Protection Agency (EPA).

ACTION: Final rule; correction.

SUMMARY: On October 21, 2005, at 70 FR 61232, EPA published a withdrawal action of a direct final rule approving the redesignation of the Christian County, Kentucky portion of the Clarksville-Hopkinsville 8-hour ozone nonattainment area to attainment for ozone. This document corrects a Code of Federal Regulations (CFR) reference contained in the withdrawal action.

DATES: This correction is effective November 21, 2005.

FOR FURTHER INFORMATION CONTACT: Mr. Sean Lakeman, Regulatory Development Section, Air Planning Branch, Air, Pesticides and Toxics Management Division, U.S. Environmental Protection Agency Region 4, 61 Forsyth Street, SW., Atlanta, Georgia 30303-8960. The telephone number is (404) 562-9043. Mr. Lakeman can also be reached via electronic mail at lakeman.sean@epa.gov.

SUPPLEMENTARY INFORMATION: EPA is making a correction to the document published October 21, 2005 (70 FR 61232), which withdrew the direct final rule published September 22, 2005, (70 FR 55550) approving the redesignation of the Christian County, Kentucky portion of the Clarksville-Hopkinsville 8-hour ozone nonattainment area to attainment for ozone. EPA is correcting the citation to the CFR contained in the October 21, 2005, withdrawal action to exclude an erroneous reference to 40 CFR 52.919. The last paragraph after the signature block on page 61232 should read as follows: “Accordingly, the amendment to 40 CFR 52.920 and 40 CFR 81.318 (which published in the Federal Register on September 22, 2005, at 70 FR 55550) is withdrawn as of October 21, 2005.”

Dated: November 15, 2005.
J.I. Palmer Jr.,
Regional Administrator, Region 4.

[FR Doc. 05-23086 Filed 11-18-05; 8:45 am]

BILLING CODE 6560-50-P